NUCLEAR REGULATORY COMMISSION

[Docket No. 50-446; NRC-2010-0206]

Draft Supplement to the Generic Environmental Impact Statement for License Renewal of Nuclear Plants; NextEra Energy Seabrook; Seabrook Station, Unit 1

AGENCY: Nuclear Regulatory Commission.

ACTION: Draft supplemental generic environmental impact statement; supplement and request for comment.

SUMMARY: The U.S. Nuclear Regulatory Commission (NRC) is publishing a supplement to the draft plant-specific Supplement 46 to the Generic Environmental Impact Statement for License Renewal of Nuclear Plants (GEIS), NUREG-1437, regarding the renewal of operating license NPF-86 for an additional 20 years of operation for Seabrook Station, Unit 1 (Seabrook). The NRC will incorporate the contents of the supplement, and any comments received thereon, into the final plant-specific supplement to the GEIS for Seabrook. Seabrook is located 13 miles south of Portsmouth, New Hampshire. Possible alternatives to the proposed action (license renewal) include no action and reasonable alternative energy sources.

DATES: Submit comments by June 30, 2013. Comments received after this date will be considered if it is practical to do so, but the NRC is able to assure consideration only for comments received on or before this date.

ADDRESSES: You may access information and comment submissions related to this document, which the NRC possesses and are publically available, by searching on http://www.regulations.gov under Docket ID NRC-2010-0206. You may submit comments by any of the following methods:

• Federal Rulemaking Web site: Go to http://www.regulations.gov and search for Docket ID NRC-2010-0206. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Lois James, Office of Nuclear Reactor Regulation, U.S. Nuclear Regulatory Commission, Washington, DC 20555-0001; telephone: 301-415-3306; email: Lois.James@nrc.gov.

SUPPLEMENTARY INFORMATION:

I. Accessing Information and Submitting Comments

A. Accessing Information

Please refer to Docket ID NRC-2010-0206 when contacting the NRC about the availability of information regarding this document. You may access information related to this document by any of the following methods:

• Federal Rulemaking Web site: Go to http://www.regulations.gov and search for Docket ID NRC-2010-0206.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's public document room (PDR) reference staff at 1-800-397-4209, 301-415-4737, or by email to pdr.resource@nrc.gov. The supplement to the draft plant-specific Supplement 46 to the GEIS, NUREG-1437, can be found in ADAMS under Accession No. ML13113A174.

• NRC's PDR: You may examine and purchase copies of public documents at the NRC's PDR, Room O1-F21, One White Flint North, 11555 Rockville Pike, Rockville, Maryland 20852.

In addition, a copy of the supplement to the draft plant-specific Supplement 46 to the GEIS is available to local residents near the site at the Seabrook Library located at 25 Liberty Street, Seabrook, NH 03874, and at the Amesbury Public Library located at 149 Main Street, Amesbury, MA 01913.

B. Submitting Comments

Please include Docket ID NRC-2010-0206 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

This supplement includes the NRC staff evaluation of revised information provided by NextEra pertaining to the severe accident mitigation alternatives (SAMA) analysis for Seabrook. In addition, this supplement updates the Uranium Fuel Cycle section in light of the June 8, 2012, U.S. Court of Appeals for the District of Columbia Circuit (New York v. NRC, 681 F.3d 471 (D.C. Cir. 2012)) decision to vacate the NRC's Waste Confidence Decision Rule (75 FR 81032, 75 FR 81037) and provides information on its analysis of new NEPA issues and associated environmental impact findings for license renewal. This supplement does not change the recommendation in Section 9.4 of the draft supplement issued in August 2011. In the August 2011 draft Supplement 46, the NRC's preliminary recommendation was that the adverse environmental impacts of license renewal for Seabrook Station, Unit 1, were not great enough to deny the option of license renewal for energy-planning decision makers.

Dated at Rockville, Maryland, this 26th day of April 2013.
For the Nuclear Regulatory Commission.
David J. Wrona,
Chief, Projects Branch 2, Division of License Renewal, Office of Nuclear Reactor Regulation.

[FR Doc. 2013-10790 Filed 5-6-13; 8:45 am]

BILLING CODE 7590-01-P